DEPARTMENT OF COMMERCE

International Trade Administration

U.S.-China Joint Commission on Commerce and Trade Working Group on Structural Issues

AGENCY: Import Administration, International Trade Administration, Department of Commerce.

ACTION: Notice of hearing and request for comment.

SUMMARY: The governments of the United States and China have agreed to establish a working group to discuss a range of issues relevant to China's aspiration to be recognized as a market economy for purposes of the U.S. antidumping law. These issues pertain to characteristics of the Chinese economy that appear to be inconsistent with the normal experience of a market economy, as well as Chinese government policies and practices that have the potential to distort the market and U.S.-China trade. The Department is therefore requesting public comment, in advance of a public hearing that will be held on June 3, 2004, for the purpose of identifying relevant topics and issues for discussion in the working group.

DATES: Comments (including any written notification of intent to testify) must be submitted by May 19, 2004.

ADDRESSES: Written comments (original and six copies) should be sent to James J. Jochum, Assistant Secretary for Import Administration, U.S. Department of Commerce, Central Records Unit, Room 1870, Pennsylvania Avenue and 14th Street NW., Washington, DC 20230.

FOR FURTHER INFORMATION CONTACT: Albert Hsu, Senior Economist, or Michael Rollin, Acting Director for Trade Remedy Compliance, Office of Policy, Import Administration, U.S. Department of Commerce, 14th Street and Constitution Avenue, NW., Washington DC, 20230, 202-482-4491 or 202-482-3415.

SUPPLEMENTARY INFORMATION: At the April 21, 2004 meeting of the U.S.-China Joint Commission on Commerce and Trade, representatives of the governments of the United States and the People's Republic of China agreed to establish a working group to hold a dialogue on the range of issues that are relevant to considering China's desire to no longer be treated as a non-market economy country (“NME”) under U.S. antidumping law. Among the more specific issues that would be taken up under this agenda would be structural characteristics of the Chinese economy that appear to be inconsistent with the normal experience of a market economy, as well as Chinese government policies and practices which have the potential to distort the market and U.S.-China trade. Examples of the types of structural issues envisioned for these discussions include China's banking sector and state-owned enterprises, as well as central, provincial, and regional governmental policies such as tax incentives and other export promotion instruments. The Department is requesting public comment in advance of a public hearing that will be held on June 3, 2004, for the purpose of identifying relevant topics and issues for discussion in the working group. We encourage parties to limit their comments to factual information that supports the issue or topic raised.

Persons wishing to comment should file a signed original and six copies of each set of comments by May 19, 2004. Comments should be limited to twenty pages. The Department will consider all comments received before the close of the comment period. Comments received after the end of the comment period will not be considered. The Department will not accept comments accompanied by a request that a part or all of the material be treated confidentially because of its business proprietary nature or for any other reason. The Department will return such comments and materials to the persons submitting the comments and will not consider them. All comments responding to this notice will be a matter of public record and will be available for public inspection and copying at Import Administration's Central Records Unit, Room B-099, between the hours of 8:30 a.m. and 5 p.m. on business days. The Department requires that comments be submitted in written form, but also recommends submission of comments in electronic form to accompany the required paper copies. Comments filed in electronic form should be submitted either by e-mail to the webmaster below, or on CD-ROM, as comments submitted on diskettes are likely to be damaged by postal radiation treatment. Comments received in electronic form will be made available to the public in Portable Document Format (PDF) on the Internet at the import administration web site at the following address: http://ia.ita.doc.gov/. Any questions concerning file formatting, document conversion, access on the Internet, or other electronic filing issues should be addressed to Andrew Lee Beller, Import Administration Webmaster, at (202) 482-0866, email address: webmaster-support@ita.doc.gov.

The public hearing on June 3, 2004, will be begin at 9 a.m. in the auditorium at the Department of Commerce, 14th Street and Constitution Ave, NW., Washington, DC 20230. Individual hearing presentations will be limited to five minutes, to allow for possible questions from the Chair and the panel. Additional time for oral presentations may be granted as time and the number of participants permit. Parties wishing to testify orally at the hearing must provide written comments (subject to the requirements described above) on which their testimony will be based, and must include with their comments a written notification of their intent to testify.

All comments and submissions (including written notification of intent to testify) should be mailed to James J. Jochum, Assistant Secretary for Import Administration; Subject: Public Hearings on U.S.-China Joint Commission on Commerce and Trade Working Group on Structural Issues; Room 1870, U.S. Department of Commerce, 14th Street and Constitution Avenue, NW., Washington, DC, by no later than 5 p.m., May 19, 2004. The notification should include (1) the name of the person presenting the testimony, their address and telephone number; (2) the organization or company they are representing, if appropriate; and (3) if applicable, any request for an extension of the time limitation on the oral presentation. In addition, please send a copy of this notification via facsimile to Lawrence Norton and Anthony Hill at (202) 482-501-1377.

Dated: April 28, 2004.
James J. Jochum,
Assistant Secretary for Import Administration.

[FR Doc. 04-10053 Filed 4-30-04; 8:45 am]

BILLING CODE 3510-DS-P